DEPARTMENT OF DEFENSE

Office of the Secretary

[Docket ID: DoD-2022-OS-0063]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 1, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Survey on the Strengths and Challenges of Military Relationships; OMB Control Number 0704-SCMR.

Needs and Uses: This collection is a DoD-sponsored comprehensive research study on the military-specific risk factors for domestic abuse and the best approaches across the coordinated community response to mitigate those factors. This collection is necessary to identify sustainable solutions to decreasing incidents and preventing violence before it occurs. This project is required by statute and will support (a) the programmatic needs of the sponsoring office: The Family Advocacy Program with Military Community and Family Policy, (b) Congressional requirements per SEC. 549C of the FY21 National Defense Authorization Act, (c) the current administration's priority to address gender-based violence, and (d) implementation of some recommendations contained in the U.S. Government Accountability Office Report 21-289, released May 6, 2021.

Domestic abuse can result in devastating personal consequences and societal costs, is incompatible with military values, and reduces mission readiness. The (OUSD(P&R)) Strategy for 2030 identifies a goal of resilient and adaptive total force. Without this study, the DoD risks continued incidents of domestic abuse across the armed forces. This survey will be fielded with active-duty married service members, active-duty unmarried service members in romantic relationships, and spouses of active-duty service members. Respondents will provide information, currently not available from other sources, to help DoD understand the strengths and challenges facing military couples, and in particular, the risk factors for and outcomes of military domestic abuse. Survey results will be used by the sponsor to improve the domestic abuse prevention and response system to better serve the needs of today's military couples.

Affected Public: Individuals or households.

Annual Burden Hours: 20,000.

Number of Respondents: 80,000.

Responses per Respondent: 1.

Annual Responses: 80,000.

Average Burden per Response: 15 minutes.

Frequency: Once.

Dated: May 24, 2022.
Aaron T. Siegel,
Alternate OSD Federal Register Liaison Officer, Department of Defense.

[FR Doc. 2022-11523 Filed 5-27-22; 8:45 am]

BILLING CODE 5001-06-P